SMALL BUSINESS ADMINISTRATION

Data Collection Available for Public Comments

ACTION: 60 Day Notice and request for comments.

SUMMARY: In accordance with the Paperwork Reduction Act of 1995, this notice announces the Small Business Administration's intentions to request approval on a new and/or currently approved information collection.

DATES: Submit comments on or before September 16, 2013.

ADDRESSES: Send all comments regarding whether this information collection is necessary for the proper performance of the function of the agency, whether the burden estimates are accurate, and if there are ways to minimize the estimated burden and enhance the quality of the collection, to Eric Wall, Financial Analyst, Office of Financial Assistance, Small Business Administration, 409 3rd Street, 6th Floor, Washington, DC 20416.

FOR FURTHER INFORMATION CONTACT: Eric Wall, Financial Analyst, 202-619-1625 eric.wall@sba.gov Curtis B. Rich, Management Analyst, 202-205-7030 curtis.rich@sba.gov.

Title: ”Gulf Opportunity Pilot Loan Program (GO Loan Pilot)”

Abstract: Since 2005 SBA has been opening the Gulf Opportunity Pilot Loan Program, which provides financing to small businesses in communities located to or re-locating in the parishes/counties that were Presidential declared disaster area as a results of Hurricanes Katrina or Rita plus any parishes/counties contiguous to these parishes. This information is collected from those parishes. This information is collected from those lenders and small business owners who participate or seek to participate in the program and is used for portfolio risk management loan monitoring and lender oversight.

Description of Respondents: Small Businesses devastated by Hurricanes Katrina and Rita.

Form Numbers: 2276, 2281, 2282.

Annual Responses: 540.

Annual Burden: 308.

Curtis Rich,
Management Analyst.

[FR Doc. 2013-17003 Filed 7-15-13; 8:45 am]

BILLING CODE 8025-01-P